DEPARTMENT OF HOMELAND SECURITY

Federal Emergency Management Agency

[Docket ID FEMA-2017-0002; Internal Agency Docket No. FEMA-B-1758]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

State and county | Location and case No. | Chief executive officer of community | Community map repository | Online location of letter of map revision | Date of modification | Community No.
Alabama:
Calhoun | City of Anniston (17-04-2695P) | The Honorable Jack Draper, Mayor, City of Anniston, P.O. Box 2168, Anniston, AL 36202 | City Hall, 1128 Gurnee Avenue, Anniston, AL 36202 | https://msc.fema.gov/portal/advanceSearch | Nov. 20, 2017 | 010020
Tuscaloosa | City of Northport (16-04-8221P) | The Honorable Donna Aaron, 3500 McFarland Boulevard, Northport, AL 35476 | City Hall, 3500 McFarland Boulevard, Northport, AL 35476 | https://msc.fema.gov/portal/advanceSearch | Oct. 24, 2017 | 010202
Tuscaloosa | City of Tuscaloosa (16-04-7839P) | The Honorable Walter Maddox, Mayor, City of Tuscaloosa, 2201 University Boulevard, Tuscaloosa, AL 35401 | Engineering Department, 2201 University Boulevard, Tuscaloosa, AL 35401 | https://msc.fema.gov/portal/advanceSearch | Nov. 20, 2017 | 010203
Tuscaloosa | City of Tuscaloosa (16-04-7840P) | The Honorable Walter Maddox, Mayor, City of Tuscaloosa, 2201 University Boulevard, Tuscaloosa, AL 35401 | Engineering Department, 2201 University Boulevard, Tuscaloosa, AL 35401 | https://msc.fema.gov/portal/advanceSearch | Nov. 20, 2017 | 010203
Tuscaloosa | City of Tuscaloosa (16-04-8217P) | The Honorable Walter Maddox, Mayor, City of Tuscaloosa, 2201 University Boulevard, Tuscaloosa, AL 35401 | Engineering Department, 2201 University Boulevard, Tuscaloosa, AL 35401 | https://msc.fema.gov/portal/advanceSearch | Oct. 24, 2017 | 010203
Tuscaloosa | City of Tuscaloosa (16-04-8221P) | The Honorable Walter Maddox, Mayor, City of Tuscaloosa, 2201 University Boulevard, Tuscaloosa, AL 35401 | Engineering Department, 2201 University Boulevard, Tuscaloosa, AL 35401 | https://msc.fema.gov/portal/advanceSearch | Oct. 24, 2017 | 010203
Tuscaloosa | Unincorporated areas of Tuscaloosa County (16-04-7839P) | The Honorable W. Hardy McCollum, Chairman, Tuscaloosa County Board of Commissioners, 714 Greensboro Avenue, Tuscaloosa, AL 35401 | Tuscaloosa County Public Works Department, 2810 35th Street, Tuscaloosa, AL 35401 | https://msc.fema.gov/portal/advanceSearch | Nov. 20, 2017 | 010201
Tuscaloosa | Unincorporated areas of Tuscaloosa County (16-04-7840P) | The Honorable W. Hardy McCollum, Chairman, Tuscaloosa County Board of Commissioners, 714 Greensboro Avenue, Tuscaloosa, AL 35401 | Tuscaloosa County Public Works Department, 2810 35th Street, Tuscaloosa, AL 35401 | https://msc.fema.gov/portal/advanceSearch | Nov. 20, 2017 | 010201
Tuscaloosa | Unincorporated areas of Tuscaloosa County (16-04-8217P) | The Honorable W. Hardy McCollum, Chairman, Tuscaloosa County Board of Commissioners, 714 Greensboro Avenue, Tuscaloosa, AL 35401 | Tuscaloosa County Public Works Department, 2810 35th Street, Tuscaloosa, AL 35401 | https://msc.fema.gov/portal/advanceSearch | Oct. 24, 2017 | 010201
Tuscaloosa | Unincorporated areas of Tuscaloosa County (16-04-8221P) | The Honorable W. Hardy McCollum, Chairman, Tuscaloosa County Board of Commissioners, 714 Greensboro Avenue, Tuscaloosa, AL 35401 | Tuscaloosa County Public Works Department, 2810 35th Street, Tuscaloosa, AL 35401 | https://msc.fema.gov/portal/advanceSearch | Oct. 24, 2017 | 010201
Colorado:
Douglas | Town of Castle Rock (17-08-0108P) | The Honorable Jennifer Green, Mayor, Town of Castle Rock, 100 North Wilcox Street, Castle Rock, CO 80104 | Water Department, 175 Kellogg Court, Castle Rock, CO 80109 | https://msc.fema.gov/portal/advanceSearch | Dec. 20, 2017 | 080050
Weld | Unincorporated areas of Weld County (17-08-1017X) | The Honorable Julie Cozad, Chair, Weld County, Board of Commissioners, P.O. Box 758, Greeley, CO 80632 | Weld County Commissioner's Office, 915 10th Street, Greeley, CO 80632 | https://msc.fema.gov/portal/advanceSearch | Dec. 22, 2017 | 080266
Florida:
Charlotte | Unincorporated areas of Charlotte County (17-04-5277P) | The Honorable Bill Truex, Chairman, Charlotte County Board of, Commissioners, 18500 Murdock Circle, Port Charlotte, FL 33948 | Charlotte County Community Development Department, 18400 Murdock Circle, Port Charlotte, FL 33948 | https://msc.fema.gov/portal/advanceSearch | Dec. 28, 2017 | 120061
Collier | Unincorporated areas of Collier County (17-04-5062P) | The Honorable Penny Taylor, Chair, Collier County Board of Commissioners, 3299 Tamiami Trail East, Suite 303, Naples, FL 34112 | Collier County Administrative Building, 3301 Tamiami Trail East, Building F, 1st Floor, Naples, FL 34112 | https://msc.fema.gov/portal/advanceSearch | Dec. 14, 2017 | 120067
Lafayette | Unincorporated areas of Lafayette County (17-04-4985P) | The Honorable Ernest Jones, Chairman, Lafayette County Board of Commissioners, P.O. Box 88, Mayo, FL 32066 | Lafayette County Building Department, 120 West Main Street, Mayo, FL 32066 | https://msc.fema.gov/portal/advanceSearch | Dec. 15, 2017 | 120131
Lee | Town of Fort Myers Beach (17-04-5861P) | The Honorable Dennis C. Boback, Mayor, Town of Fort Myers Beach, 2525 Estero Boulevard, Fort Myers Beach, FL 33931 | Community Development Department, 2525 Estero Boulevard, Fort Myers Beach, FL 33931 | https://msc.fema.gov/portal/advanceSearch | Dec. 26, 2017 | 120673
Manatee | Unincorporated areas of Manatee County (16-04-8547P) | The Honorable Betsy Benac, Chair, Manatee County Board of Commissioners, P.O. Box 1000, Bradenton, FL 34206 | Manatee County Building and Development Services Department, 1112 Manatee Avenue West, Bradenton, FL 34205 | https://msc.fema.gov/portal/advanceSearch | Dec. 22, 2017 | 120153
Manatee | Unincorporated areas of Manatee County (17-04-1580P) | The Honorable Betsy Benac, Chair, Manatee County Board of Commissioners, P.O. Box 1000, Bradenton, FL 34206 | Manatee County Building and Development Services Department, 1112 Manatee Avenue West, Bradenton, FL 34205 | https://msc.fema.gov/portal/advanceSearch | Jan. 8, 2018 | 120153
Miami-Dade | City of North Miami (17-04-4598P) | The Honorable Smith Joseph, Mayor, City of North Miami, 776 Northeast 125th Street, 2nd Floor, North Miami, FL 33161 | Building Department, 12340 Northeast 8th Avenue, North Miami, FL 33161 | https://msc.fema.gov/portal/advanceSearch | Dec. 8, 2017 | 120655
Pinellas | City of St. Pete Beach (17-04-2937P) | The Honorable Alan Johnson, Mayor, City of St. Pete Beach, 155 Corey Avenue, St. Pete Beach, FL 33706 | Building Services Department, 155 Corey Avenue, St. Pete Beach, FL 33706 | https://msc.fema.gov/portal/advanceSearch | Dec. 26, 2017 | 125149
Pinellas | Town of Indian Shores (17-04-1784P) | The Honorable Patrick Soranno, Mayor, Town of Indian Shores, 19305 Gulf Boulevard, Indian Shores, FL 33785 | Building Department, 19305 Gulf Boulevard, Indian Shores, FL 33785 | https://msc.fema.gov/portal/advanceSearch | Dec. 26, 2017 | 125118
Georgia: Douglas | Unincorporated areas of Douglas County (17-04-5176P) | The Honorable Romona Jackson Jones, Chair, Douglas County Board of Commissioners, 8700 Hospital Drive, 3rd Floor, Douglasville, GA 30134 | Douglas County Engineering Division, 8700 Hospital Drive, 1st Floor, Douglasville, GA 30134 | https://msc.fema.gov/portal/advanceSearch | Dec. 28, 2017 | 130306
Iowa: Woodbury | City of Sioux City (17-07-0805P) | The Honorable Bob Scott, Mayor, City of Sioux City, P.O. Box 447, Sioux City, IA 51102 | Planning Division, 405 6th Street, Room 308, Sioux City, IA 51102 | https://msc.fema.gov/portal/advanceSearch | Dec. 8, 2017 | 190298
Maryland: Independent City | City of Baltimore (17-03-1132P) | The Honorable Catherine E. Pugh, Mayor, City of Baltimore, 100 North Holliday Street, Baltimore, MD 21202 | Planning Department, 417 East Fayette Street, 8th floor, Baltimore, MD 21202 | https://msc.fema.gov/portal/advanceSearch | Dec. 18, 2017 | 240087
Massachusetts:
Barnstable | Town of Provincetown (17-01-0821P) | Mr. David Panagore, Manager, Town of Provincetown, 260 Commercial Street, Provincetown, MA 02657 | Town Hall, 260 Commercial Street, Provincetown, MA 02657 | https://msc.fema.gov/portal/advanceSearch | Dec. 15, 2017 | 255218
Plymouth | Town of Hingham (17-01-0559P) | The Honorable Mary Power, Chair, Town of Hingham Board of Selectmen, 210 Central Street, Hingham, MA 02043 | Conservation Department, 210 Central Street, Hingham, MA 02043 | https://msc.fema.gov/portal/advanceSearch | Dec. 13, 2017 | 250268
Plymouth | Town of Hull (17-01-0559P) | The Honorable Kevin Richardson, Chairman, Town of Hull Board of Selectmen, 253 Atlantic Avenue, Hull, MA 02045 | Building Department, 253 Atlantic Avenue, Hull, MA 02045 | https://msc.fema.gov/portal/advanceSearch | Dec. 13, 2017 | 250269
Plymouth | Town of Wareham (17-01-1783P) | Mr. Derek Sullivan, Administrator, Town of Wareham, 54 Marion Road, Wareham, MA 02571 | Town Hall, 54 Marion Road, Wareham, MA 02571 | https://msc.fema.gov/portal/advanceSearch | Dec. 8, 2017 | 255223
Nebraska:
Dakota | City of South Sioux City (17-07-0805P) | The Honorable Rod Koch, Mayor, City of South Sioux City, 1615 1st Avenue, South Sioux City, NE 68776 | Inspection Services Department, 1615 1st Avenue, South Sioux City, NE 68776 | https://msc.fema.gov/portal/advanceSearch | Dec. 8, 2017 | 310054
Dakota | Unincorporated areas of Dakota County (17-07-0805P) | The Honorable Scott Love, Chairman, Dakota County Board of Commissioners, P.O. Box 338, Dakota City, NE 68731 | Dakota County Planning and Zoning Department, 1863 North Bluff Road, Hubbard, NE 68741 | https://msc.fema.gov/portal/advanceSearch | Dec. 8, 2017 | 310429
North Carolina:
Surry | Unincorporated areas of Surry County (17-04-4112P) | The Honorable Eddie Harris, Chairman, Surry County Board of Commissioners 118 Hamby Road, Dobson, NC 27017 | Surry County Planning and Development Department, 122 Hamby Road Dobson, NC 27017 | https://msc.fema.gov/portal/advanceSearch | Dec. 1, 2017 | 370364
Surry | Unincorporated areas of Surry County (17-04-4113P) | The Honorable Eddie Harris, Chairman, Surry County, Board of Commissioners, 118 Hamby Road, Dobson, NC 27017 | Surry County Planning and Development Department, 122 Hamby Road Dobson, NC 27017 | https://msc.fema.gov/portal/advanceSearch | Jan. 4, 2018 | 370364
Wake | City of Raleigh (16-04-2709P) | The Honorable Nancy McFarlane, Mayor, City of Raleigh, P.O. Box 590, Raleigh, NC 27602 | Stormwater Management Division, 1 Exchange Plaza, Suite 304, Raleigh, NC 27601 | https://msc.fema.gov/portal/advanceSearch | Dec. 7, 2017 | 370243
Pennsylvania:
Bucks | Township of Buckingham (17-03-0837P) | The Honorable Maggie Rash, Chair, Township of Buckingham, Board of Supervisors, P.O. Box 413, Buckingham, PA 18912 | Township Building, 4613 Hughesian Drive, Buckingham, PA 18912 | https://msc.fema.gov/portal/advanceSearch | Jan. 4, 2018 | 420985
Centre | Borough of Bellefonte (17-03-0534P) | The Honorable Gay D. Dunne, President, Borough of Bellefonte Council, 236 West Lamb Street, Bellefonte, PA 16823 | Borough Hall, 236 West Lamb Street, Bellefonte, PA 16823 | https://msc.fema.gov/portal/advanceSearch | Dec. 5, 2017 | 420257
South Carolina:
Charleston | Town of Mount Pleasant (17-04-5432P) | The Honorable Linda Page, Mayor, Town of Mount Pleasant, 100 Ann Edwards Lane, Mount Pleasant, SC 29464 | Planning Department, 100 Ann Edwards Lane, Mount Pleasant, SC 29464 | https://msc.fema.gov/portal/advanceSearch | Dec. 20, 2017 | 455417
Charleston | Unincorporated areas of Charleston County (17-04-5432P) | The Honorable A. Victor Rawl, Chairman, Charleston County Council, 4045 Bridge View Drive, Suite B254, North Charleston, SC 29405 | Building Inspection Services Department, 4045 Bridgeview Drive, Suite A311, North Charleston, SC 29405 | https://msc.fema.gov/portal/advanceSearch | Dec. 20, 2017 | 455413
Tennessee: Shelby | City of Memphis (17-04-2464P) | The Honorable Jim Strickland, Mayor, City of Memphis, 125 North Main Street, Room 700, Memphis, TN 38103 | Engineering Division, 125 North Main Street, Room 677, Memphis, TN 38103 | https://msc.fema.gov/portal/advanceSearch | Dec. 27, 2017 | 470177
Texas:
Bexar | City of San Antonio (17-06-2618P) | The Honorable Ron Nirenberg, Mayor, City of San Antonio, P.O. Box 839966, San Antonio, TX 78283 | Transportation and Capital Improvements Department, Stormwater Division, 1901 South Alamo Street, 2nd Floor, San Antonio, TX 78204 | https://msc.fema.gov/portal/advanceSearch | Dec. 14, 2017 | 480045
Collin | City of Celina (17-06-1207P) | The Honorable Sean Terry, Mayor, City of Celina, 142 North Ohio Street, Celina, TX 75009 | City Hall, 142 North Ohio Street, Celina, TX 75009 | https://msc.fema.gov/portal/advanceSearch | Jan. 2, 2018 | 480133
Collin | City of Celina (17-06-2118P) | The Honorable Sean Terry, Mayor, City of Celina, 142 North Ohio Street, Celina, TX 75009 | City Hall, 142 North Ohio Street, Celina, TX 75009 | https://msc.fema.gov/portal/advanceSearch | Dec. 18, 2017 | 480133
Harris | Unincorporated areas of Harris County (17-06-3378P) | The Honorable Edward M. Emmett, Harris County Judge, 1001 Preston Street, Suite 911, Houston, TX 77002 | Harris County Permit Office, 10555 Northwest Freeway, Suite 120, Houston, TX 77092 | https://msc.fema.gov/portal/advanceSearch | Dec. 11, 2017 | 480287
Lubbock | City of Lubbock (17-06-2588P) | The Honorable Dan Pope, Mayor, City of Lubbock, P.O. Box 2000, Lubbock, TX 79457 | Public Works Department, 1625 13th Street, Room 107, Lubbock, TX 79401 | https://msc.fema.gov/portal/advanceSearch | Dec. 18, 2017 | 480452
Lubbock | City of Lubbock (17-06-2768P) | The Honorable Dan Pope, Mayor, City of Lubbock, P.O. Box 2000, Lubbock, TX 79457 | Public Works Department, 1625 13th Street, Room 107, Lubbock, TX 79401 | https://msc.fema.gov/portal/advanceSearch | Dec. 18, 2017 | 480452
Montgomery | City of Conroe (17-06-2714X) | The Honorable Toby Powell, Mayor, City of Conroe, P.O. Box 3066, Conroe, TX 77305 | Public Works Department, 401 Sergeant Ed Holcomb Boulevard South, Conroe, TX 77304 | https://msc.fema.gov/portal/advanceSearch | Dec. 1, 2017 | 480484
Tarrant | City of Fort Worth (17-06-0577P) | The Honorable Betsy Price, Mayor, City of Fort Worth, 1000 Throckmorton Street, Fort Worth, TX 76102 | Transportation and Public Works Department, 1000 Throckmorton Street, Fort Worth, TX 76102 | https://msc.fema.gov/portal/advanceSearch | Dec. 11, 2017 | 480596
Tarrant | City of Fort Worth (17-06-1457P) | The Honorable Betsy Price, Mayor, City of Fort Worth, 1000 Throckmorton Street, Fort Worth, TX 76102 | Transportation and Public Works Department, 1000 Throckmorton Street, Fort Worth, TX 76102 | https://msc.fema.gov/portal/advanceSearch | Dec. 18, 2017 | 480596
Tarrant | City of North Richland Hills (17-06-0350P) | The Honorable Oscar Trevino, Jr., Mayor, City of North Richland Hills, 4301 City Point Drive, North Richland Hills, TX 76180 | Administration and Engineering Department, 4301 City Point Drive, North Richland Hills, TX 76180 | https://msc.fema.gov/portal/advanceSearch | Dec. 11, 2017 | 480607

[FR Doc. 2017-25616 Filed 11-29-17; 8:45 am]

BILLING CODE 9110-12-P